ENVIRONMENTAL PROTECTION AGENCY

[FRL-8173-7]

Science Advisory Board Staff Office; Notification of a Meeting of the Science Advisory Board

AGENCY: Environmental Protection Agency (EPA).

ACTION: Notice.

SUMMARY: The EPA Science Advisory Board (SAB) Staff Office announces a public face-to-face meeting of the chartered SAB to discuss EPA Regional science programs, review and approve one or more draft SAB Committee reports, and continue the planning of upcoming SAB meetings.

DATES: The dates for the meeting are Thursday, June 22, 2006, from 8:30 a.m.-5:30 p.m. through Friday, June 23, 2006, from 8 a.m.-12 noon (Eastern Time).

ADDRESSES: The meeting will be held at the U.S. EPA Region 2 Headquarters Office, 290 Broadway, Room 27A, New York, NY 10007.

FOR FURTHER INFORMATION CONTACT: Members of the public who wish to obtain further information about this meeting may contact Mr. Thomas O. Miller, Designated Federal Officer (DFO), by mail at EPA SAB Staff Office (1400F), U.S. EPA, 1200 Pennsylvania Avenue, NW., Washington, DC 20460; by telephone at (202) 343-9982; by fax at (202) 233-0643; or by e-mail at: miller.tom@epa.gov. The SAB mailing address is: U.S. EPA, Science Advisory Board (1400F), 1200 Pennsylvania Ave., NW., Washington, DC, 20460. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: At this meeting, the Science Advisory Board will: (a) Receive briefings from Regional management and scientists about regional science programs and identify opportunities for SAB and Regional office interactions; and (b) review at least one draft SAB report. Any additional items to be discussed, as well as any draft reports to be reviewed, will be posted on the SAB Web site at http://www.epa.gov/sab prior to the meeting.

Availability of Meeting Materials: Materials in support of this meeting will be placed on the SAB Web site at http://www.epa.gov/sab in advance of this meeting.

Procedures for Providing Public Input: Interested members of the public may submit relevant written or oral information for the SAB to consider during the advisory process.

Oral Statements: In general, individuals or groups requesting an oral presentation at a public meeting will be limited to five minutes per speaker, with no more than one hour for all speakers. Interested parties should contact Mr. Miller, DFO, at the contact information provided above, by June 15, 2006, to be placed on the public speaker list for the June 22, 2006 meeting.

Written Statements: Written statements should be received in the SAB Staff Office by June 15, 2006, so that the information may be made available to the SAB for their consideration prior to this meeting. Written statements should be supplied to the DFO in the following formats: One hard copy with original signature, and one electronic copy via e-mail (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: May 18, 2006.
Anthony Maciorowski,
Associate Director for Science, EPA Science Advisory Board Staff Office.

[FR Doc. E6-7927 Filed 5-23-06; 8:45 am]

BILLING CODE 6560-50-P